ELECTION ASSISTANCE COMMISSION

Sunshine Act Meetings

AGENCY: Election Assistance Commission.

ACTION: Sunshine Act notice; notice of public meeting agenda.

SUMMARY: Public Meeting: U.S. Election Assistance Commission Standards Board 2025 Annual Meeting.

DATES: Thursday, April 24, 2025, 9 a.m.-4:30 p.m. ET, and Friday, April 25, 2025, 9 -11:45 a.m. ET. Public registration for the event on or before April 18, 2025. Written comments should be received no later than 5 p.m. ET on April 23, 2025.

ADDRESSES: Grand Bohemian Charlotte, Autograph Collection, 201 West Trade Street, Charlotte, North Carolina 28202.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b) and the Federal Advisory Committee Act (5 U.S.C. 10), the U.S. Election Assistance Commission (EAC) will hold its annual meeting of the EAC Standards Board to conduct regular business, discuss EAC updates and upcoming programs, and discuss other relevant election topics.

Agenda: The U.S. Election Assistance Commission (EAC) Standards Board will hold its 2025 Annual Meeting to conduct regular business, and discuss EAC updates and upcoming programs, such as audit standards, voter registration and list maintenance, signature verification, and more.

Registration is required to attend. Members of the public should register by April 18, 2025, on the event page at eac.gov/events.

The EAC will only accept written comments and questions from members of the public. If you would like to participate, please email clearinghouse@eac.gov with your full name and question or comment no later than 5 p.m. ET on April 23, 2025.

Background: The Help America Votes Act (HAVA) designates a 110-member Standards Board to assist EAC in carrying out its mandates under the law. The board consists of 55 state election officials selected by their respective chief state election official, and 55 local election officials selected through a process supervised by the chief state election official.

The full agenda will be posted in advance on the EAC website: https://www.eac.gov/events.

Status: This meeting will be open to the public.

Camden Kelliher,
General Counsel, U.S. Election Assistance Commission.

[FR Doc. 2025-05822 Filed 4-1-25; 11:15 am]

BILLING CODE 4810-71-P